DEPARTMENT OF COMMERCE

[I.D. 081104B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: An Observer Program for At-sea Processing Vessels in the Pacific Coast Groundfish Fishery.

Form Number(s): None.

OMB Approval Number: None.

Type of Request: Regular submission.

Burden Hours: 51.

Number of Respondents: 22.

Average Hours Per Response: 15 minutes for college transcript and disclosure statement; 4 hours for appeal; 7 minutes for training/briefing registration; 2 minutes for notification of physical examination; 7 minutes for projected observer assignment information; 7minutes for weekly deployment/logistics report; 7 minutes for debriefing registration; 2 hours for report on observer harassment, safety or performance concerns.

Needs and Uses: This data collection is necessary for the administration of a new observer program for processing vessels in the mothership and catcher-processor sectors of the whiting fishery. The collection relates to the response time for observers that have been issued notices of suspension or decertification to provide documentary evidence or to the action.

Affected Public: Business or other for-profit organizations, and individuals or households.

Frequency: On occasion, weekly, annually.

Respondent's Obligation: Required to obtain of retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number 202-395-7285, or David_Rostker@omb.eop.gov.

Dated: August 9, 2004.
Gwellnar Banks,
Management Analyst, Office of the Chief Information Officer.

[FR Doc. 04-18703 Filed 8-13-04; 8:45 am]

BILLING CODE 3510-22-S